OFFICE OF THE UNITED STATES TRADE REPRESENTATIVE

Notice of Meeting of the Trade and Environment Policy Advisory Committee (TEPAC)

AGENCY: Office of the United States Trade Representative.

ACTION: Notice that the November 5, 2003, meeting of the Trade and Environment Policy Advisory Committee will be held from 10 a.m. to 12 noon. The meeting will be closed to the public from 10 a.m. to 11:40 a.m. and open to the public from 11:40 a.m. to 12 noon, when trade policy issues will be discussed. Attendance during this part of the meeting is for observation only. Individuals who are not members of the committee will not be invited to comment.

SUMMARY: The meeting will include a review and discussion of current issues which influence U.S. trade policy. Pursuant to section 2155(f)(2) of Title 19 of the United States Code, I have determined that this meeting will be concerned with matters the disclosure of which would seriously compromise the development by the United States Government of trade policy, priorities, negotiating objectives or bargaining positions with respect to the operation of any trade agreement and other matters arising in connection with the development, implementation and administration of the trade policy of the United States.

DATES: The meeting is scheduled for November 5, 2003, unless otherwise notified.

ADDRESSES: The meeting will be held at the Winder Building in Conference Room 305, located at 600 17th Street, NW., Washington, DC, unless otherwise notified.

FOR FURTHER INFORMATION CONTACT: Christina Sevilla, Office of Intergovernmental Affairs and Public Liaison, (202) 395-6120.

Christopher A. Padilla,
U.S. Trade Representative for Intergovernmental Affairs and Public Liaison.

[FR Doc. 03-26811 Filed 10-23-03; 8:45 am]

BILLING CODE 3190-W3-M